FEDERAL COMMUNICATIONS COMMISSION

47 CFR Part 73

[DA 05-2300, MM Docket No. 00-9, RM-9526]

Radio Broadcasting Services; Beaumont and Dayton, TX

AGENCY: Federal Communications Commission.

ACTION: Proposed rule; dismissal.

SUMMARY: At the request of Liberman Broadcasting of Houston License Corp., the Audio Division dismisses a rulemaking petition to reallot and change the community of license for Station KQQK(FM), Channel 300C, from Beaumont to Dayton, Texas, and terminates this rulemaking proceeding. See 65 FR 4401, January 27, 2000. The withdrawal of the rulemaking petition complies with Section 1.420(j) of the Commission's rules. See also SUPPLEMENTARY INFORMATION.

FOR FURTHER INFORMATION CONTACT: Andrew J. Rhodes, Media Bureau, (202) 418-2180.

SUPPLEMENTARY INFORMATION: This is a synopsis of the Commission's Report and Order, MM Docket No. 00-9, adopted August 17, 2005, and released August 19, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was dismissed.

A continuing interest is required before a channel will be allotted. Because the rulemaking petition and the expression of interest in the proposed allotment at Dayton have been withdrawn, no allotment at Dayton or change of community of license will be made.

List of Subjects in 47 CFR Part 73

Radio, Radio broadcasting.

Federal Communications Commission.
John A. Karousos,
Assistant Chief, Audio Division, Media Bureau.

[FR Doc. 05-17521 Filed 9-6-05; 8:45 am]

BILLING CODE 6712-01-P